ENVIRONMENTAL PROTECTION AGENCY

[EPA-HQ-OECAd-2024-0420; FRL-12264-01-OECA]

Access by U.S. Environmental Protection Agency (EPA) Contractor and Subcontractors to Confidential Business Information (CBI) Submitted Under Clean Air Act (CAA), Act To Prevent Pollution From Ships (APPS) and the American Innovation and Manufacturing Act (AIM)

AGENCY: Environmental Protection Agency (EPA).

ACTION: Notice.

SUMMARY: The United States Environmental Protection Agency's (EPA's) Office of Enforcement and Compliance Assurance (OECA) plans to authorize a contractor and several subcontractors to access information that will be submitted to the EPA under the Clean Air Act (CAA), the Act to Prevent Pollution from Ships (APPS) and the American Innovation and Manufacturing Act (AIM) that may be claimed as, or may be determined to be, confidential business information (CBI).

DATES: Comments must be received on or before October 21, 2024. The contractor's and subcontractors' access to information collected under the CAA, the APPS and the AIM, will begin on October 22, 2024.

ADDRESSES: You may send comments, identified by Docket ID No. EPA HQ-OECA-2024-0420, by any of the following methods:

• Federal eRulemaking Portal: https://www.regulations.gov/ (our preferred method). Follow the online instructions for submitting comments.

• Email: docket.oeca@epa.gov. Include Docket ID No. EPA HQ-OECA-2024-0420 in the subject line of the message.

Instructions: All submissions received must include the Docket ID No. for this rulemaking. Comments received may be posted without change to https://www.regulations.gov/, including any personal information provided.

FOR FURTHER INFORMATION CONTACT: Griffith Brown, Air Enforcement Division, Office of Enforcement and Compliance Assurance (Mail Code 8MSU), Environmental Protection Agency, 1595 Wynkoop St., Denver, CO 80202; telephone number: (202) 250-8551; email address: brown.griffith@epa.gov.

SUPPLEMENTARY INFORMATION:

I. Does this notice apply to me?

This action is directed to the general public. However, this action may be of particular interest to certain parties, including the following: owners and operators of stationary sources subject to the CAA including, but not limited to, State Implementation Plans (SIPs), hazardous air pollutants (HAPs, MACT Rules) under Section 112, permits including New Source Review and Prevention of Significant Deterioration (NSR/PSD), New Source Performance Standards (NSPS), and Prevention of Accidental Releases under Section 112(r); motor vehicle manufacturers and importers; engine manufacturers and importers; motor vehicle fuel and fuel additive producers and importers; manufacturers, importers, users and distributors of hydrofluorocarbons (HFCs); manufacturers, importers and distributors of motor vehicle and engine emission control equipment and parts; and any other parties subject to the regulations found in 40 CFR parts 52, 60, 63-80, 82, 84-86, 89-92, 94, 98, 600, 1033, 1036, 1037, 1039, 1042, 1043, 1045, 1048, 1051, 1054, 1060, 1065, 1068, and 1090.

This Federal Register notice may be of particular relevance to parties that have submitted data to the EPA under the above-listed regulations. Because other parties may also be interested, the EPA has not attempted to describe all the specific parties that may be affected by this action. If you have further questions regarding the applicability of this action to a particular party, please contact the person listed in FOR FURTHER INFORMATION CONTACT.

II. How can I get copies of this document and other related information?

A. Electronically

The EPA has established a public docket for this Federal Register notice under Docket ID No. EPA-HQ-OECA-2024-0420.

All documents in the docket are identified in the docket index available at http://www.regulations.gov. Although listed in the index, some information is not publicly available, such as CBI or other information for which disclosure is restricted by statute.

B. EPA Docket Center

Materials listed under Docket ID No. EPA-HQ-OECA-2024-0420 will be available for public viewing at the EPA Docket Center (EPA/DC), EPA West, Room 3334, 1301 Constitution Avenue NW, Washington, DC 20004. The EPA Docket Center Public Reading Room is open from 8:30 a.m. to 4:30 p.m., Monday through Friday, excluding legal holidays. The telephone number for the Reading Room is (202) 566-1744, and the telephone number for the Air Docket is (202) 566-1742.

III. Description of Programs and Potential Disclosure of Information Claimed as CBI to Contractor and Subcontractors

The EPA's OECA has responsibility for protecting public health and the environment by enforcing standards for air pollution. In order to implement various CAA, APPS and AIM programs, OECA collects compliance reports and other information from the regulated industry. Occasionally, the information submitted to, or obtained by, the EPA is claimed to be CBI by persons submitting data to the EPA. Information submitted under such a claim is handled in accordance with the EPA's regulations at 40 CFR part 2, subpart B, and in accordance with the EPA procedures that are consistent with those regulations. When the EPA has determined that disclosure of information claimed as CBI to EPA contractors or subcontractors is necessary, the corresponding contract must address the appropriate use and handling of the information by the EPA contractor and subcontractors and the EPA contractor and subcontractors must require its personnel who require access to information claimed as CBI to sign written non-disclosure agreements before they are granted access to data.

In accordance with 40 CFR 2.301(h), the EPA has determined that EPA contractor Eastern Research Group, Incorporated (ERG), 14555 Avion Parkway, Suite 200, Chantilly, VA 20151, and ERG subcontractors Allen Lyons Consulting LLC; CohnReznick LLP; and James J. Carroll, CPA (collectively referred to as “subcontractors” in this notice) require access to CBI submitted to the EPA under the CAA, APPS, and the AIM for the work they perform under Contract Number 68HERC24D0009. We are providing notice and an opportunity to comment on their access to information claimed as CBI. We are issuing this Federal Register notice to inform all affected submitters that we plan to grant access to material that may be claimed as CBI to ERG and its subcontractors on a need-to-know basis.

Under Contract Number 68HERC24D0009, ERG provides enforcement support for the EPA's regulatory and enforcement activities, including field inspections, investigations, audits, and other CAA regulatory and enforcement support that involve access to information claimed as CBI. ERG also employs subcontractors, who support these activities, under the above-listed contract. ERG and its subcontractors require access to information claimed as CBI to support EPA enforcement activities described above. Access to data, including information claimed as CBI, will commence six days after the date of publication of this notice in the Federal Register, and will continue until October 21, 2029. If the contract and associated subcontracts are extended, this access will continue for the remainder of the ERG contract without further notice. If the contract expires prior to October 21, 2029, the access will cease at that time. If ERG employs additional subcontractors to support the EPA on a regular basis or on a limited or one-time basis under the above-listed contract, and those subcontractors require access to CBI, the EPA will notify affected companies of the contemplated disclosure and provide them with an opportunity to comment by either sending them a letter or by publishing an additional notice in the Federal Register.

Parties who wish to obtain further information about this Federal Register notice, or about OECA's disclosure of information claimed as CBI to ERG and its subcontractors, may contact the person listed under FOR FURTHER INFORMATION CONTACT.

Dated: October 9, 2024.
Mary E. Greene,
Director, Air Enforcement Division.

[FR Doc. 2024-23842 Filed 10-15-24; 8:45 am]

BILLING CODE 6560-50-P